NUCLEAR REGULATORY COMMISSION

[NRC-2013-0029]

Service Contracts Inventory

AGENCY: Nuclear Regulatory Commission.

ACTION: Notice of availability.

SUMMARY: The U.S. Nuclear Regulatory Commission (NRC) is providing for public information its Inventory of Contracts for Services for Fiscal Year (FY) 2012. The inventory includes service contract actions over $25,000 that were awarded in FY 2012.

ADDRESSES: Please refer to Docket ID NRC-2013-0029 when contacting the NRC about the availability of information regarding this document. You may access information related to this document, which the NRC possesses and are publicly available, using any of the following methods:

• Federal Rulemaking Web site: Go to http://www.regulations.gov and search for Docket ID NRC-2013-0029. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The Inventory of Contracts for Services for FY 2012 can be accessed under ADAMS accession number ML12362A385. The inventory was published on the NRC Web site at the following location: http://www.nrc.gov/about-nrc/contracting.html.

• NRC's PDR: You may examine and purchase copies of public documents at the NRC's PDR, Room O1-F21, One White Flint North, 11555 Rockville Pike, Rockville, Maryland 20852.

FOR FURTHER INFORMATION CONTACT: Lori Konovitz, Office of Administration, U.S. Nuclear Regulatory Commission, Washington, DC 20555-0001; telephone: 301-492-3627 or email: lori.konovitz@nrc.gov.

SUPPLEMENTARY INFORMATION: In accordance with Section 743 of Division C of the FY 2010 Consolidated Appropriations Act, Public Law 111-117, the NRC is publishing this notice to advise the public of the availability of its FY 2012 Service Contracts Inventory. The inventory provides information on service contract actions over $25,000 that were awarded in FY 2012. The information is organized by function to show how contracted resources are distributed throughout the agency. The inventory contains the following data:

1. A description of the services purchased;

2. The total dollar amount obligated for the services under the contract, and the funding source for the contract;

3. The contract type and date of the award;

4. The name of the contractor and place of performance;

5. Whether the contract is a personal services contract; and

6. Whether the contract was awarded on a non-competitive basis.

The NRC will analyze the data in the inventory for the purpose of determining if its contract labor is being used in an effective and appropriate manner and if the mix of federal employees and contractors in the agency is effectively balanced. The NRC developed the inventory by pulling data from the Federal Procurement Data System—Next Generation. The inventory does not include contractor proprietary or sensitive information.

Dated at Rockville, Maryland, this 7th day of February 2013.
For the Nuclear Regulatory Commission.
James C. Corbett,
Director, Division of Contracts, Office of Administration.

[FR Doc. 2013-03435 Filed 2-13-13; 8:45 am]

BILLING CODE 7590-01-P